DEPARTMENT OF THE INTERIOR

Office of the Secretary

[18XD4523WT_DS64950000_DWT000000.000000_DP.64920; OMB Control Number 1090-0007]

Agency Information Collection Activities; Submission to the Office of Management and Budget for Review and Approval; American Customer Satisfaction Index (ACSI) Government Customer Satisfaction Surveys

AGENCY: Office of the Secretary, Office of Strategic Employee and Organization Development, Federal Consulting Group, Interior.

ACTION: Notice of information collection; request for comment.

SUMMARY: In accordance with the Paperwork Reduction Act of 1995, we, the Federal Consulting Group are proposing to renew an information collection.

DATES: Interested persons are invited to submit comments on or before July 2, 2018.

ADDRESSES: Send written comments on this information collection request (ICR) to the Office of Management and Budget's Desk Officer for the Department of the Interior by email at OIRA_Submission@omb.eop.gov; or via facsimile to (202) 395-5806. Please provide a copy of your comments to Federal Consulting Group, Attention: Lucy Adams, 1849 C St. NW, MS 4344, Washington, DC 20240-0001, or by facsimile to (202) 513-5184, or via email to Luciana_adams@ios.doi.gov. Please reference OMB Control Number 1090-0007 in the subject line of your comments.

FOR FURTHER INFORMATION CONTACT: To request additional information about this ICR, contact Federal Consulting Group, Attention: Lucy Adams, 1849 C St. NW, MS 4344, Washington, DC 20240-0001, or by facsimile to (202) 513-5184, or via email to Luciana_adams@ios.doi.gov. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 2, 2018 (83 FR 9022). No comments were received.

We are again soliciting comments on the proposed ICR that is described below. We are especially interested in public comment addressing the following issues: (1) Is the collection necessary to the proper functions of the Federal Consulting Group; (2) will this information be processed and used in a timely manner; (3) is the estimate of burden accurate; (4) how might the Federal Consulting Group enhance the quality, utility, and clarity of the information to be collected; and (5) how might the Federal Consulting Group minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Office of Management and Budget regulation at 5 CFR 1320, which implement provisions of the Paperwork Reduction Act of 1995 (Pub. L. 104-13), require that interested members of the public and affected agencies have an opportunity to comment on information collection and recordkeeping activities [see 5 CFR 1320.8(d)]. The Office of Strategic Employee and Organization Development, Federal Consulting Group has submitted a request to the Office of Management and Budget to renew its approval of this collection of information for three years.

The proposed renewal of this information collection activity provides a means to consistently assess, benchmark, and improve customer satisfaction with Federal government agency programs and/or services within the Executive Branch. The Federal Consulting Group of the Department of the Interior serves as the executive agent for this methodology and has partnered with the Claes Fornell International Group (CFI Group) and the American Customer Satisfaction Index (ACSI) to offer the ACSI to Federal government agencies.

The CFI Group, a leader in customer satisfaction and customer experience management, offers a comprehensive model that quantifies the effects of quality improvements on citizen satisfaction. The CFI Group has developed the methodology and licenses it to the American Customer Satisfaction Index, an independent organization which produces the American Customer Satisfaction Index (ACSI). This national indicator is developed for different economic sectors each quarter, which are then published in The Wall Street Journal. The ACSI was introduced in 1994 by Professor Claes Fornell under the auspices of the University of Michigan, the American Society for Quality (ASQ), and the CFI Group. The ACSI monitors and benchmarks customer satisfaction across more than 200 companies and many U.S. Federal agencies.

The ACSI is the only cross-agency methodology for obtaining comparable measures of customer satisfaction with Federal government programs and/or services. Along with other economic objectives—such as employment and growth—the quality of outputs (goods and services) is a part of measuring living standards. The ACSI's ultimate purpose is to help improve the quality of goods and services available to American citizens.

ACSI surveys conducted by the Federal Consulting Group are subject to the Privacy Act of 1974, Public Law 93-579, December 31, 1974 (5 U.S.C. 552a). The agency information collection is an integral part of conducting an ACSI survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly select respondents from among established systems of records provided for such routine uses.

There is no other agency or organization able to provide the information accessible through the surveying approach used in this information collection. Further, the information will enable Federal agencies to determine customer satisfaction metrics with discrimination capability across variables. Thus, this information collection will assist Federal agencies in making the best use of resources in a targeted manner to improve service to the public.

This survey asks no questions of a sensitive nature, such as sexual behavior and attitudes, religious beliefs, or other matters that are commonly considered private.

An agency may not conduct or sponsor, and a person is not required to respond to, a collection of information unless it is operating under a currently valid OMB control number. The Office of Management and Budget control number for this collection is 1090-0007. The control number will be displayed on the surveys used. Response to the surveys is voluntary.

Title of Collection: American Customer Satisfaction Index (ACSI) Government Customer Satisfaction Surveys.

OMB Control Number: 1090-0007.

Form Number: None.

Type of Review: Extension of a currently approved collection.

Respondents/Affected Public: Individuals, Business, and State, Local, or Tribal Governments who have utilized Federal Government services.

Estimated Completion Time per Response: Participation by Federal agencies in the ACSI is expected to vary as new customer segment measures are added or deleted. However, based on historical records, projected average estimates for the next three years are as follows:

Average Expected Annual Number of Customer Satisfaction Surveys: 100 with 800 respondents per survey.

Total Estimated Number of Annual Responses: 80,000.

Estimated Completion Time per Response: 12 minutes.

Total Estimated Number of Annual Burden Hours: 16,000.

Respondent's Obligation: Voluntary.

Frequency of Collection: Once per survey.

Total Estimated Annual Nonhour Burden Cost: None.

An agency may not conduct or sponsor and a person is not required to respond to a collection of information unless it displays a currently valid OMB control number.

The authority for this action is the Paperwork Reduction Act of 1995 (44 U.S.C. 3501 et seq.).

Jessica Reed,
Director, Federal Consulting Group.

[FR Doc. 2018-11620 Filed 5-30-18; 8:45 am]

BILLING CODE 4334-63-P